DEPARTMENT OF JUSTICE

Notice of Lodging of Proposed Consent Decree Under the Comprehensive Environmental Response, Compensation, and Liability Act (“CERCLA”)

On October 28, 2020, the Department of Justice filed a complaint and simultaneously lodged a proposed consent decree with the United States District Court for the District of New Jersey in the lawsuit entitled United States of America v. Linde Inc. f/k/a Praxair, Inc., Civil Action No. 3:20-cv-15103.

The United States seeks reimbursement of response costs incurred under Section 107(a) of the Comprehensive Environmental Response, Compensation, and Liability Act (“CERCLA”) from Linde Inc. f/k/a Praxair, Inc. (“Settling Defendant”) for response actions at or in connection with the release or threatened release of hazardous substances at the LCP Chemicals, Inc. Superfund Site (the “Site”) in Linden, New Jersey.

Under the proposed consent decree, Settling Defendant will pay $10 million to the United States to resolve its liability for past and future response costs. Settling Defendant reserves the right to assert claims against the United States under Section 113(f)(3)(B) of CERCLA, 42 U.S.C. 9613(f)(3)(B), arising from the United States' ownership of General Aniline & Film stock and alleged ownership and/or operation of the Site between 1942 and 1965. In return, the United States covenants not to sue or to take administrative action against Settling Defendant pursuant to Sections 106, 107(a), and 107(c)(3) of CERCLA, 42 U.S.C. 9606, 9607(a), and 9607(c)(3), or under Section 7003 of the Resource Conservation and Recovery Act (“RCRA”), 42 U.S.C. 6973. The United States reserves the right to institute separate proceedings against Settling Defendant if previously unknown conditions on or information about the 2.1-acre leasehold of the Site formerly operated by Settling Defendant's predecessors are discovered, and these previously unknown conditions or information indicate that the remedial action is not protective of human health or the environment.

The publication of this notice opens a period for public comment on the proposed consent decree. Comments should be addressed to the Assistant Attorney General, Environment and Natural Resources Division, Environmental Enforcement Section, and should refer to United States of America v. Linde Inc. f/k/a Praxair, Inc., D.J. Ref. No. 90-11-3-11134. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under Section 7003(d) of RCRA, a commenter may request an opportunity for a public meeting in the affected area.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $5.75 (25 cents per page reproduction cost) payable to the United States Treasury.

Henry Friedman,
Assistant Section Chief, Environmental Enforcement Section, Environment and Natural Resources Division.

[FR Doc. 2020-24277 Filed 11-2-20; 8:45 am]

BILLING CODE 4410-15-P